DEPARTMENT OF HEALTH AND HUMAN SERVICES

National Committee on Vital and Health Statistics; Meeting

AGENCY: Centers for Disease Control and Prevention, HHS.

ACTION: Notice of meeting.

SUMMARY: Pursuant to the Federal Advisory Committee Act, the Department of Health and Human Services (HHS) announces the following advisory committee meeting. This meeting is open to the public. The public is welcome to obtain the link to attend this meeting by following the instructions posted on the Committee website: https://ncvhs.hhs.gov/meetings/full-committee-meeting-11/.

DATES: The meeting will be held Wednesday, July 20, 2022: 10:30 a.m.-5:00 p.m. EDT and Thursday, July 21, 2022: 10:30 a.m.-4:30 p.m. EDT.

ADDRESSES: Virtual open meeting.

FOR FURTHER INFORMATION CONTACT: Substantive program information may be obtained from Rebecca Hines, MHS, Executive Secretary, NCVHS, National Center for Health Statistics, Centers for Disease Control and Prevention, 3311 Toledo Road, Hyattsville, Maryland 20782, or via electronic mail to vgh4@cdc.gov; or by telephone (301) 458-4715. Summaries of meetings and a roster of Committee members are available on the home page of the NCVHS website https://ncvhs.hhs.gov/, where further information including an agenda and instructions to access the broadcast of the meeting will be posted.

Should you require reasonable accommodation, please telephone the CDC Office of Equal Employment Opportunity at (770) 488-3210 as soon as possible.

SUPPLEMENTARY INFORMATION:

Purpose: As outlined in its Charter, the National Committee on Vital and Health Statistics assists and advises the Secretary of HHS on health data, data standards, statistics, privacy, national health information policy, and the Department's strategy to best address those issues. At this meeting, the Committee will receive updates from HHS officials, hold discussions on current health data policy topics, and discuss its work plan for the upcoming period.

The Subcommittee on Standards will provide an update from its June 9, 2022, Listening Session on Standardization of Information for Burden Reduction and Post-Pandemic America (“Convergence 2.0”). The Subcommittee anticipates discussing draft recommendations with the full Committee developed as a result of a yearlong process.

In addition, the Committee will hear an update on developments on uptake of International Classification of Diseases, 11th Revision (ICD-11) and briefings on various data privacy, confidentiality, and security developments to inform the workplan, which also will be discussed. The Committee's Workgroup on Sexual Orientation and Gender Identity/Social Determinants of Health Data (SOGI/SDOH) will give an update on recent activities and upcoming plans.

The Committee will reserve time for public comment toward the end of the agenda on both days. Meeting times and topics are subject to change. Please refer to the agenda posted at the NCVHS website for this meeting at: https://ncvhs.hhs.gov/meetings/full-committee-meeting-11/ for updates.

Sharon Arnold,
Associate Deputy Assistant Secretary for Planning and Evaluation, Science and Data Policy, Office of the Assistant Secretary for Planning and Evaluation.

[FR Doc. 2022-14176 Filed 7-1-22; 8:45 am]

BILLING CODE 4150-05-P